DEPARTMENT OF STATE

[Public Notice 11957]

Advisory Committee on Historical Diplomatic Documentation—Notice of Closed and Open Meetings for 2023

SUMMARY: The Advisory Committee on Historical Diplomatic Documentation will meet on March 13, June 12, September 11 (virtual), and December 11, 2023, in open session to discuss unclassified matters concerning declassification and transfer of Department of State records to the National Archives and Records Administration and the status of the Foreign Relations series. Open sessions will include briefings to the Committee from the Historian of the Department of State and the General Editor of the Foreign Relations series, followed by a Q&A discussion period; presentations on published Foreign Relations volumes by members of the Office of the Historian; and a chance for public participants to ask questions related to the status of the series or the opening of the Department's historical records to the public.

The Committee will meet in open session from 10 a.m. until noon in SA-4D Conference Room 109, Department of State, 2300 E Street NW, Washington DC, 20372 (Potomac Navy Hill Annex), on March 13, June 12, and December 11 with a virtual option. The Committee will meet virtually only on September 11. RSVP and requests for reasonable accommodation for each meeting should be sent as directed below:

• March 13, not later than March 6, 2023.

• June 12, not later than June 5, 2023.

• September 11, not later than September 4, 2023 (virtual only).

• December 11, not later than December 4, 2023.

Closed Sessions. The Committee's sessions in the afternoon of Monday, March 13, 2023; in the morning of Tuesday, March 14, 2023; in the afternoon of Monday, June 12, 2023; in the morning of Tuesday, June 13, 2023; in the afternoon of Monday, December 11, 2023; and in the morning of Tuesday, December 12, 2023, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

RSVP Instructions. Prior notification and a valid government-issued photo ID (such as driver's license, passport, U.S. Government or military ID) are required for entrance into the Department of State building. Members of the public planning to attend the open meetings should RSVP, by the dates indicated above, to Julie Fort, Office of the Historian (202-955-0214). When responding, please provide date of birth, valid government-issued photo identification number and type (such as driver's license number/state, passport number/country, or U.S. Government ID number/agency or military ID number/branch), and relevant telephone numbers. If you cannot provide one of the specified forms of ID, please consult with Julie Fort for acceptable alternative forms of picture identification.

Personal data is requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at https://www.state.gov/wp-content/uploads/2019/05/Security-Records-STATE-36.pdf, for additional information.

Questions concerning the meeting should be directed to Adam M. Howard, Executive Secretary, Advisory Committee on Historical Diplomatic Documentation, Department of State, Office of the Historian, Washington, DC 20372, telephone (202) 955-0214, (email history@state.gov).

Note that requests for reasonable accommodation received after the dates indicated in this notice will be considered but might not be possible to fulfill.

Adam M. Howard,
Executive Secretary, Advisory Committee on Historical Diplomatic Documentation, Department of State.

[FR Doc. 2023-00047 Filed 1-5-23; 8:45 am]

BILLING CODE 4710-31-P